Title 3—

The President

Presidential Determination No. 2001-05 of December 15, 2000

Presidential Determination Pursuant to Section 2(c)(1) of the Migration and Refugee Assistance Act of 1962, as Amended

Memorandum for the Secretary of State

Pursuant to section 2(c)(1) of the Migration and Refugee Assistance Act of 1962, as amended, 22 U.S.C. 2601(c)(1), I hereby determine that it is important to the national interest that up to $33 million be made available from the U.S. Emergency Refugee and Migration Assistance Fund to meet the unexpected urgent refugee and migration needs, including those of refugees, displaced persons, conflict victims, and other persons at risk, due to crises in Guinea, the Democratic Republic of the Congo, Afghanistan, the North Caucasus, Serbia, and the Middle East. These funds may be used, as appropriate, to provide contributions to international, governmental, and nongovernmental organizations. I understand that you will be forwarding a separate request to meet requirements for refugee assistance in Bosnia and Croatia.

You are authorized and directed to inform the appropriate committees of the Congress of this determination and the use of funds under this authority, and to arrange for the publication of this determination in the Federal Register.

wj

THE WHITE HOUSE,

Washington, December 15, 2000.

[FR Doc. 00-33460

Filed 12-29-00; 8:45 am]

Billing code 4710-10-M